SECURITIES AND EXCHANGE COMMISSION

[SEC File No. 270-318, OMB Control No. 3235-0361]

Submission for OMB Review; Comment Request; Extension: Form ADV-E

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (the “Commission”) has submitted to the Office of Management and Budget a request for extension of the previously approved collection of information discussed below.

Form ADV-E (17 CFR 279.8) is the cover sheet for certificates of accounting filed pursuant to rule 206(4)-2(a)(4) under the Investment Advisers Act of 1940 (17 CFR 275.206(4)-(2)(a)(4)). The rule further requires that the public accountant file with the Commission a Form ADV-E and accompanying statement within four business days of the resignation, dismissal, removal from consideration for being reappointed, or other termination of its engagement.

The Commission has estimated that compliance with the requirement to complete Form ADV-E imposes a total burden of approximately 0.05 hours (3 minutes) per respondent. Based on current information from advisers registered with the Commission, the Commission staff estimates that 1,946 filings will be submitted with respect to surprise examinations and 52 filings will be submitted with respect to termination of accountants. Based on these estimates, the total estimated annual burden would be 99.90 hours ((1,946 filings × .05 hours) + (52 filings × .05 hours)).

The information provided on Form ADV-E is mandatory. Responses will not be kept confidential. An agency may not conduct or sponsor a collection of information unless it displays a currently valid OMB control number. No person shall be subject to any penalty for failing to comply with a collection of information subject to the PRA that does not display a valid OMB control number.

Public Comment Instructions: The 30-day public comment period for this information collection request opens on December 16, 2024 and closes at the end of the day on January 13, 2025. The public may view the full information request and submit comments at https://www.reginfo.gov/public/do/PRAViewICR?ref_nbr=202409-3235-022 or email comments to MBX.OMB.OIRA.SEC_desk_officer@omb.eop.gov.

Dated: December 9, 2024.
Sherry R. Haywood,
Assistant Secretary.

[FR Doc. 2024-29304 Filed 12-12-24; 8:45 am]

BILLING CODE 8011-01-P